DEPARTMENT OF HEALTH AND HUMAN SERVICES

Centers for Disease Control and Prevention

[60Day-08-08BA]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Active Bacterial Core Surveillance (ABCs) Projects—New—National Center for Immunization and Respiratory Diseases (NCIRD), Centers for Disease Control and Prevention (CDC).

Background and Brief Description

CDC is requesting OMB approval for four data collection instruments that will assist public health officials in documenting disease burden and describing the epidemiology of six bacterial pathogens: group A and group B streptococcus, Haemophilus influenzae, Neisseria meningitidis, Streptococcus pneumoniae, and methicillin-resistant Staphylococcus aureus. Case finding is active and laboratory-based. A standard case report is completed on all identified cases through medical record review. The standard case report form contains questions on basic demographics, underlying medical conditions, vaccinations and risk factors for infection. The ABCs project is a core component of an established CDC-state-academic institution collaborative data collection network, the Emerging Infections Program (EIP) Network which includes the states of California, Colorado, Connecticut, Georgia, Maryland, Minnesota, New Mexico, New York, Oregon and Tennessee. Data collection is done differently in each EIP/ABCs surveillance area; for example, through the cooperation of on-site hospital personnel (e.g., Infection Control Practitioners or Medical Records personnel), through medical record review or clinician interview by county health department personnel, or through medical record review by surveillance personnel.

The data collections have important practical utility to the government as well as the American population as a whole because accurate surveillance data allows for the development and evaluation of public health prevention measures. ABCs is the gold standard for the collection of population- and laboratory-based invasive bacterial disease data in the U.S. No other nationwide surveillance systems which monitor these diseases exist. While similar information may be collected on a sample basis or from a particular area of the country, for most diseases, sampling would not be sufficient for the states' need of conducting prevention or control programs. ABCs collect data from EIP sites in a uniform manner.

CDC is requesting approval of four data collection forms. Estimates are based on CDC's prior experience with conducting similar surveillance activities. “Respondents” for each of the forms are health departments who will submit surveillance case report forms. “Responses” for the case report forms indicate the number of cases of the six pathogens listed above that are identified. Number of “responses” for all case report forms must be estimated as we do not know before hand how many cases will occur.

CDC is utilizing technology to minimize the burden associated with completing and submitting forms. CDC will provide to each EIP site a Microsoft Access database that mirrors the data collection forms. Surveillance staff at each participating EIP site will enter data from the data collection form into the database. 100% of the forms included in this data collection package will be submitted to CDC electronically. Password-protected databases are posted to site-specific folders on a secure CDC ftp site.

There are no costs to respondents other than their time.

Estimated Annualized Burden Hours
Form name | Type of respondent | Number of respondents | Number of responses per respondent | Average burden per response (in hours) | Total burden (in hours)
ABCs Case Report Form | State Health Department | 10 | 809 | 20/60 | 2697
Invasive Methicillin-resistant Staphylococcus aureus ABCs Case Report Form | State Health Department | 10 | 609 | 20/60 | 2030
ABCs Invasive Pneumococcal Disease in Children Case Report Form | State Health Department | 10 | 41 | 10/60 | 68
Neonatal Group B Streptococcal Disease Prevention Tracking Form | State Health Department | 10 | 37 | 20/60 | 123
Total |  |  |  |  | 4918

Dated: May 23, 2008.
Maryam I. Daneshvar,
Acting Reports Clearance Officer, Centers for Disease Control and Prevention.

[FR Doc. E8-12192 Filed 5-30-08; 8:45 am]

BILLING CODE 4163-18-P